Proclamation 9621 of May 31, 2017

National Homeownership Month, 2017

By the President of the United States of America

A Proclamation

During National Homeownership Month, we recognize the many benefits of homeownership to our families, our communities, and our Nation. For generations of Americans, owning a home has been an essential element in achieving the American Dream. Homeownership is often the foundation of security and prosperity for families and communities and an enduring symbol of American freedom. This month, we recommit to ensuring that hard-working Americans enjoy a fair chance at becoming homeowners.

In the years since the Great Recession, homeownership rates have dipped to historic lows. Many Americans are not confident they will ever own a home, a tragic consequence of a decade of weak economic growth, excessive regulations, and stagnant wages. Many young families are unable to achieve the independence they desire because they have difficulty saving for a down payment, overcoming regulatory burdens, or gaining access to adequate credit. These challenges are even more pronounced for minorities, whose homeownership rates remain substantially below those of their fellow Americans.

I am committed to helping hard-working Americans become homeowners. As part of my Administration's plan to strengthen the middle class and the American housing market, I am working with the Congress on a pro-growth agenda of reducing rules and regulations, cutting taxes, and eliminating unnecessary government spending. These policies will unshackle our economy and create and sustain high-paying jobs so that more Americans have the resources and freedom they deserve to fulfill their American Dream.

NOW, THEREFORE, I, DONALD J. TRUMP, President of the United States of America, by virtue of the authority vested in me by the Constitution and the laws of the United States, do hereby proclaim June 2017 as National Homeownership Month.

IN WITNESS WHEREOF, I have hereunto set my hand this thirty-first day of May, in the year of our Lord two thousand seventeen, and of the Independence of the United States of America the two hundred and forty-first.

[FR Doc. 2017-11778

Filed 6-2-17; 11:15 am]

Billing code 3295-F7-P